DEPARTMENT OF AGRICULTURE

Forest Service

Kootenai National Forest, Rexford Ranger District, Montana; Young-Dodge Environmental Impact Statement

AGENCY: Forest Service, USDA.

ACTION: Notice of intent to prepare an environmental impact statement.

SUMMARY: The USDA—Forest Service will prepare an Environmental Impact Statement (EIS) to disclose the environmental effects of timber harvest, prescribed burning, road management, recreation improvements, and special use permits in the Young-Dodge Decision Area (Decision Area) on the Rexford Ranger District of the Kootenai National Forest. The Forest Service is seeking comments from Federal; State, and local agencies and individuals and organizations that may be interested in or affected by the proposed actions. The comments will be used to prepared the draft EIS (DEIS).

DATES: Written comments concerning the scope of the analysis must be postmarked by or received within 30 days following publication of this notice. The draft environmental impact statement is expected in April 2008.

ADDRESSES: Send written comments concerning the proposed action to Glen M. McNitt, District Ranger, Rexford Ranger District, 1299 U.S. Highway 93 N, Eureka, MT 59917. All comments received must contain: name of commenter, postal service mailing address, and date of comment.

FOR FURTHER INFORMATION CONTACT: Chris Fox, Interdisciplinary Team Leader, Rexford Ranger District, 1299 U.S. Highway 93N, Eureka, MT 59917.

SUPPLEMENTARY INFORMATION: The Decision Area is located approximately 15 miles northwest of Eureka, Montana, and contains approximately 37,900 acres of land within the Kootenai National Forest. Proposed activities include all or portions of the following areas: T.37N R.28W and part of T.37N R.29W, PMM, Lincoln County, Montana.

All proposed activities are outside the boundaries of any areas considered for inclusion to the National Wilderness System as recommended by the Kootenai National Forest Plan or by any past or present legislative wilderness proposals. A prescribed burn is proposed within the boundary of the Robinson Mountain Inventoried Roadless Area.

Purpose and Need for Action

The purpose and need for the project is to: (1) Reduce fuel accumulations, both inside and outside the Wildland-Urban Interface, to decrease the likelihood that fires would become stand-replacing wildfires; (2) Restore historical vegetation species and stand structure; and (3) Restore historical patch sizes. Other consideration are: (4) Identify the minimum transportation system necessary to provide safe, reasonable, and efficient access for Forest Service administrative activities and fire suppression, recreation use and public access, and private land owners and utility companies; (5) Manage the transportation system to reduce effects to threatened, endangered, sensitive, and management indicator species habitat and security; streams, riparian areas, and wetlands; big game winter range; and old growth habitat, and to minimize road maintenance costs; (6) Evaluate recreation facilities and opportunities to meet growing and anticipated demand; and (7) Evaluate existing and proposed Special Use Permits.

Proposed Action

The Forest Service proposes to use regeneration harvest (shelterwood and seedtree prescriptions) on approximately 2,000 acres, and commercial thinning on approximately 1,120 acres.

The Proposed Action would result in 26 openings over 40 acres, ranging from 41 to 1,121 acres. A 60-day public review period and approval by the Regional Forester for exceeding the 40-acre limitation for regeneration harvest would be required prior to the signing of the Record of Decision. This 60-day period is initiated with this Notice of Intent.

The Proposed Action includes approximately 2,660 acres of underburning following timber harvest, 460 acres of excavator piling and burning, and approximately 2,050 acres of prescribed burning without timber harvest. Approximately 1,650 acres will be mechanically pre-treated followed by prescribed burning. Additionally, the Proposed Action includes 31 acres of post and pole harvest, 366 acres of roadside salvage, and up to 200 acres of salvage of incidental mortality associated with prescribed burning.

The Proposed Action includes maintenance activities on portions of approximately 70 miles of road to meet Best Management Practices; decommissioning approximately 12 miles of roads currently restricted year-long to motorized vehicles; placing approximately 26 miles of roads, which are currently restrict year-long to motor vehicles, in intermittent stored service; placing seasonal restrictions on motorized vehicle use on approximately 6 miles of roads; adding approximately 9 miles of “unauthorized” roads to the National Forest Road System; and realigning and reconstructing approximately .25 miles of a road which is of poor standard and receiving heavy use.

The Proposed Action includes the construction of a boat ramp and installation of a rest room, and improvements to a trail.

The Proposed Action also includes a number of special use permits which will expire during the period this project will be implemented, and two proposed special use permits for utility lines.

The Proposed Action may require several project-specific Forest Plan amendments to meet the project's objectives:

An amendment to allow harvest in units adjacent to existing openings in Management Area (MA) 12 (Big Game Summer Range). The amendment would be needed to suspend Wildlife and Fish Standard #7 and Timber Standard #2 for this area. These standards state the movement corridors and adjacent hiding cover be retained.

The resulting opening sizes more closely correlate to natural disturbance patterns. Snags and down woody material would be left to provide wildlife habitat and maintain soil productivity.

A third amendment to allow the open road density in MA 12 to be managed at greater than 0.75 miles/square mile during project implementation may be required. The amendment would be necessary to suspend Facilities Standard #3, which states that open road density should be maintained at 0.75 miles/square mile.

Possible Alternatives

The Forest Service will consider a range of alternatives. One of these will be the “no action” alternative, in which none of the proposed activities will be implemented. Additional alternatives will be considered to achieve the project's purpose and need for action, and to respond to specific resource issues and public concerns.

Responsible Official

Paul Bradford, Forest Supervisor, Kootenai National Forest, 1101 Highway 2 West, Libby, MT 59923.

Nature of the Decision To Be Made

This project will provide approximately 10 MMBF of commercial forest products, reduce hazardous fuels within and outside the wildland-urban interface, provide for recreation facilities, and evaluate special-use permits.

Scoping Process

In March 2007, efforts were made to involve the public in considering management opportunities within the Decision Area. Open houses were held on March 14 and 15, 2007. A scoping package was mailed for public review on May 4, 2007. An open house was held on May 16, 2007, and field trips were held on May 17, 2007 and June 28, 2007. The proposal will be included in the quarterly Schedule of Proposed Actions. Comments received prior to this notice will be included in the documentation for the EIS.

Preliminary Issues

A preliminary issue identified reflects concern over the amount of regeneration harvest (approximately 2,000 acres) proposed in watersheds were logging has occurred and grizzly bears and lynx may be present.

Comment Requested

This Notice of intent initiates the scoping process which guides the development of the environment impact statement. At this stage of the planning process, site-specific public comments are being requested to determine the scope of the analysis, and identify significant issues and alternatives to the Proposed Action.

Early Notice of Importance of Public Participation in Subsequent Environmental Review

A draft environmental impact statement will be prepared for comment. The comment period on the draft environmental impact will be 45 days from the date the Environmental Protection Agency published the notice of availability in the Federal Register.

The Forest Service believes it is important to give reviewers notice of several court rulings related to public participating in the environmental review process. First, reviewers of DEIS' must structure their participation in the environmental review of the proposal so that it is meaningful and alerts an agency to the reviewer's position and contentions. Vermont Yankee Nuclear Power Corp. v. NRDC, 435 U.S. 519, 553 (1978). Also, environmental objections that could be raised at the draft environmental impact statement stage may be waived or dismissed by the Courts. City of Angoon v. Hodel, 803, F.2d 1016, 1022 (9th Cir. 1986) and Wisconsin Heritages, Inc. v. Harris, 490 F. Supp. 1334, 1339 (E.D. Wis. 1980). Because of these court rulings, it is very important that those interested in this proposed action participate by the close of the 45 day comment period so that substantive comments and objections are made available to the Forest Service at a time when it can meaningfully consider and respond to them in the final environmental impact statement.

To assist the Forest Service in identifying and considering issues and concerns on the proposed action, comments on the draft environmental impact statement should be as specific as possible. It is also helpful if comments refer to specific pages or chapters of the draft statements. Comments may also address the adequacy of the draft environmental impact statement or the merits of the alternatives formulated and discussed in the statement. Reviewers may wish to refer to the Council on Environmental Quality Regulations for implementing the procedural provisions of The National Environmental Policy Act at 40 CFR 1503.3 in addressing these points. Comments received, including the names and addresses of those who comment, will be considered part of the public record on this proposal and will be available for public inspection.

(Authority: 40 CFR 1501.7 and 1508.22; Forest Service Handbook 1909.15, Section 21)

Dated: July 10, 2007.
Paul Bradford,
Forest Supervisor.

[FR Doc. 07-3519 Filed 7-19-07; 8:45 am]

BILLING CODE 3410-11-M